DEPARTMENT OF VETERANS AFFAIRS

Veterans' Advisory Committee on Rehabilitation; Notice of Meeting

The Department of Veterans Affairs (VA) gives notice under the Federal Advisory Committee Act that a meeting of the Veterans' Advisory Committee on Rehabilitation (VACOR) will be held on Monday and Tuesday, May 7-8, 2018 in room 542, 1800 G Street NW, Washington DC 20006. The meeting will begin at 8:30 a.m. (EST) on May 7th and begin at 8:00 a.m. (EST) on May 8th and adjourn at 4:00 p.m. (EST) each day. Both meetings are open to the public.

The purpose of the Committee is to provide advice to the Secretary on the rehabilitation needs of Veterans with disabilities and on the administration of VA's rehabilitation programs.

On May 7, 2018, the Committee will be provided with ethics training, receive updated briefings from the Advisory Committee Management Office (ACMO), Vocational Rehabilitation and Employment (VR&E) Service and participate in group breakout sessions. On May 8, 2018, Committee members will receive updated briefings on various VA programs designed to enhance the rehabilitative potential of disabled Veterans. Members will also begin their consideration of potential recommendations to be included in the Committee's next annual report.

Although no time will be allocated for receiving oral presentations from the public, members of the public may submit written statements for review by the Committee to Sabrina McNeil, Designated Federal Officer, Veterans Benefits Administration (28), 810 Vermont Avenue NW, Washington, DC 20420, or via email at Sabrina.McNeil@va.gov. In the communication, writers must identify themselves and state the organization, association or person(s) they represent. Individuals who wish to attend the meeting should RSVP to Sabrina McNeil at (202) 461-9618, no later than close of business, April 30, 2018. Any member of the public seeking additional information should contact Sabrina McNeil at the phone number or email address noted above.

Dated: April 12, 2018.
LaTonya L. Small,
Federal Advisory Committee Management Officer.

[FR Doc. 2018-08005 Filed 4-17-18; 8:45 am]

BILLING CODE P